DEPARTMENT OF JUSTICE

Membership of the Senior Executive Service and Senior Level Standing Performance Review Boards

AGENCY: Department of Justice.

ACTION: Notice of Department of Justice's standing members of the Senior Executive Service and Senior Level Performance Review Boards.

SUMMARY: Pursuant to the requirements of 5 U.S.C. 4314(c)(4), the Department of Justice announces the membership of its 2024 Senior Executive Service (SES) and Senior Level (SL) Standing Performance Review Boards (PRBs). The purpose of the PRB is to provide a fair and impartial review of SES and SL performance appraisals and make recommendations to the appointing authority concerning performance ratings, performance awards, and performance-based pay adjustments.

FOR FURTHER INFORMATION CONTACT: F. Michael Sena, Deputy Director, Human Resources, Justice Management Division, Department of Justice, Washington, DC 20530, (202) 532-4594.

Dated: October 9, 2024.
Jolene Ann Lauria,
Assistant Attorney General for Administration.

2024 Federal Register

List of Names (Alphabetical Order)

Bass, Stacie

Baxter, William H

Brewer, Laurence Neil

Campbell, Romona

Collier, Andrew T

DeTineo, Kristen E

Ducot, Gregory Earl

Flentje, August E

Freeman, Mark R

Govindan, Jay

Griffith, L Cristina

Haungs, Michael J

Hoag, Aaron D

Haar, Daniel

King, Damon Alexander

McCarthy, Andrea Wenz

McCarthy, Patricia M

McHenry, James

Merkle, Phillip K

Messersmith, Cynthia

Milusnic, Louis J

Mizer, Benjamin C

Neumann, Jennifer Scheller

Pelletier, Jonathan

Pfister, Mary B

Posner, Morton J

Raish, Anne S

Reich, Mitchell

Ruisanchez, Alberto J

Satten-Lopez, Elena

Shatz, Eileen M

Spriggs, Dwayne Eugene

Tarlov, Yvette F

Thompson, Sonya D

Toledo, Randy

Ugolini, Francesca

Wilkinson, James

Woodard, Karen D

[FR Doc. 2024-23756 Filed 10-11-24; 8:45 am]

BILLING CODE 4410-CH-P